DEPARTMENT OF DEFENSE

Office of the Secretary

[Docket ID: DoD-2024-OS-0067]

Submission for OMB Review; Comment Request

AGENCY: Office of the Under Secretary of Defense (Comptroller)/Chief Financial Officer, Department of Defense (DoD).

ACTION: 30-Day information collection notice.

SUMMARY: The DoD has submitted to the Office of Management and Budget (OMB) for clearance the following proposal for collection of information under the provisions of the Paperwork Reduction Act.

DATES: Consideration will be given to all comments received by September 26, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Waiver/Remission of Indebtedness Application; DD Form 2789; OMB Control Number 0730-0009.

Type of Request: Extension.

Number of Respondents: 4,500.

Responses per Respondent: 1.

Annual Responses: 4,500.

Average Burden per Response: 80 minutes.

Annual Burden Hours: 6,000.

Needs and Uses: The information collected on this form will be used by the Defense Finance and Accounting Service to determine whether there is indication of fraud, misrepresentation, fault, or lack of good faith, and whether it is in the best interest of the United States to forgive the debt. It will also be used to determine if a debtor should have been reasonably aware of the overpayment when it occurred. If a request for waiver is denied, the debt collection office (DCO) (usually the payroll office) will continue or resume collection if collection action was previously suspended. If a request for waiver is approved, then the DCO must cancel any outstanding portion of the debt and refund any portion of the debt that may have been collected prior to waiver approval.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: August 21, 2024.
Aaron T. Siegel,
Alternate OSD Federal Register Liaison Officer, Department of Defense.

[FR Doc. 2024-19210 Filed 8-26-24; 8:45 am]

BILLING CODE 6001-FR-P